DEPARTMENT OF HOMELAND SECURITY

Federal Emergency Management Agency

[Docket ID FEMA-2024-0002; Internal Agency Docket No. FEMA-B-2445]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Online location of letter of map revision | Date of modification | Community No.
Alabama:
Madison | City of Madison (23-04-3026P). | The Honorable Paul Finley, Mayor, City of Madison, 100 Hughes Road, Madison, AL 35758. | City Hall, 100 Hughes Road, Madison, AL 35758. | https://msc.fema.gov/portal/advanceSearch. | Sep. 26, 2024 | 010308
Mobile | City of Mobile (24-04-1639P). | The Honorable William Stimpson, Mayor, City of Mobile, P.O. Box 1827, Mobile, AL 36633. | City Clerk's Office, 205 Government Street, Mobile, AL 36602. | https://msc.fema.gov/portal/advanceSearch. | Oct. 3, 2024 | 015007
Arkansas: Pulaski | Unincorporated areas of Pulaski County (23-06-2073P). | The Honorable Barry Hyde, Pulaski County Judge, 201 South Broadway Street, Suite 400, Little Rock, AR 72201. | Pulaski County Planning and Development Department, 3200 Brown Street, Little Rock, AR 72204. | https://msc.fema.gov/portal/advanceSearch. | Sep. 23, 2024 | 050179
Florida:
Indian River | Unincorporated areas of Indian River County (24-04-0897P). | Susan Adams, Chair, Indian River County Board of Commissioners, 1801 27th Street, Vero Beach, FL 32960. | Indian River County Administration Building, 1801 27th Street, Vero Beach, FL 32960. | https://msc.fema.gov/portal/advanceSearch. | Sep. 25, 2024 | 120119
Lake | City of Groveland (23-04-5489P). | The Honorable Evelyn Wilson, Mayor, City of Groveland, 243 South Lake Avenue, Groveland, FL 34736. | City Hall, 243 South Lake Avenue, Groveland, FL 34736. | https://msc.fema.gov/portal/advanceSearch. | Oct. 9, 2024 | 120135
Lake | Unincorporated areas of Lake County (23-04-5489P). | Jennifer Barker, Lake County Manager, 315 West Main Street, Tavares, FL 32778. | Lake County Public Works Department, 323 North Sinclair Avenue, Tavares, FL 32778. | https://msc.fema.gov/portal/advanceSearch. | Oct. 9, 2024 | 120135
Lee | City of Bonita Springs (24-04-1255P). | The Honorable Rick Steinmeyer, Mayor, City of Bonita Springs, 9101 Bonita Beach Road, Bonita Springs, FL 34135. | Community Development Department, 9220 Bonita Beach Road, Suite 111, Bonita Springs, FL 34135. | https://msc.fema.gov/portal/advanceSearch. | Sep. 23, 2024 | 120680
Lee | Unincorporated areas of Lee County (24-04-1255P). | David Harner, Lee County Manager, 2115 2nd Street, Fort Myers, FL 33901. | Lee County Building Department, 1500 Monroe Street, Fort Myers, FL 33901. | https://msc.fema.gov/portal/advanceSearch. | Sep. 23, 2024 | 125124
Manatee | Unincorporated areas of Manatee County (24-04-0371P). | Charlie Bishop, Manatee County Administrator, 1112 Manatee Avenue West, Bradenton, FL 34205. | Manatee County Administration Building, 1112 Manatee Avenue West, Bradenton, FL 34205. | https://msc.fema.gov/portal/advanceSearch. | Sep. 9, 2024 | 120153
Manatee | Unincorporated areas of Manatee County (24-04-1367P). | Charlie Bishop, Manatee County Administrator, 1112 Manatee Avenue West, Bradenton, FL 34205. | Manatee County Administration Building, 1112 Manatee Avenue West, Bradenton, FL 34205. | https://msc.fema.gov/portal/advanceSearch. | Sep. 30, 2024 | 120153
Palm Beach | Town of Loxahatchee Groves (23-04-4820P). | Francine Ramaglia, Manager, Town of Loxahatchee Groves, 155 F Road, Loxahatchee Groves, FL 33411. | Town Hall, 155 F Road, Loxahatchee Groves, FL 33411. | https://msc.fema.gov/portal/advanceSearch. | Sep. 12, 2024 | 120309
Palm Beach | Unincorporated areas of Palm Beach County (23-04-4820P). | Verdenia C. Baker, Palm Beach County Administrator, 301 North Olive Avenue, Suite 1101, West Palm Beach, FL 33401. | Palm Beach County Building Division, 2300 North Jog Road, Vista Center, 1st Floor, 1E-17, West Palm Beach, FL 33411. | https://msc.fema.gov/portal/advanceSearch. | Sep. 12, 2024 | 120192
Palm Beach | Village of Royal Palm Beach (23-04-4820P). | The Honorable Fred Pinto, Mayor, Village of Royal Palm Beach, 1050 Royal Palm Beach Boulevard, Royal Palm Beach, FL 33411. | Village Hall, 1050 Royal Palm Beach Boulevard, Royal Palm Beach, FL 33411. | https://msc.fema.gov/portal/advanceSearch. | Sep. 12, 2024 | 120225
Kentucky:
Hardin | City of Elizabethtown (24-04-0372P). | The Honorable Jeff Gregory, Mayor, City of Elizabethtown, 200 West Dixie Avenue, Elizabethtown, KY 42702. | City Hall, 200 West Dixie Avenue, Elizabethtown, KY 42702. | https://msc.fema.gov/portal/advanceSearch. | Sep. 23, 2024 | 210095
Jefferson | Metropolitan Government of Louisville and Jefferson County (23-04-5492P). | The Honorable Craig Greenberg, Mayor, Metropolitan Government of Louisville and Jefferson County, 527 West Jefferson Street, Louisville, KY 40202. | Louisville/Jefferson County Metropolitan Sewer District, 700 West Liberty Street, Louisville, KY 40203. | https://msc.fema.gov/portal/advanceSearch. | Sep. 23, 2024 | 210120
Louisiana:
East Feliciana | Unincorporated areas of East Feliciana Parish County (24-06-0746P). | Louis Kent, President, East Feliciana Parish Police Jury, P.O. Box 427, Clinton, LA 70722. | East Feliciana Parish Police Jury and Assessor, 12064 Marston Street, Clinton, LA 70722. | https://msc.fema.gov/portal/advanceSearch. | Sep. 19, 2024 | 220364
West Feliciana | Unincorporated areas of West Feliciana Parish County (24-06-0746P). | Kenneth Havard, President, West Feliciana Parish, P.O. Box 1921, St. Francisville, LA 70775. | West Feliciana Parish Government, 5934 Commerce Street, St. Francisville, LA 70775. | https://msc.fema.gov/portal/advanceSearch. | Sep. 19, 2024 | 220245
North Carolina:
Brunswick | Town of Leland (23-04-2026P). | The Honorable Brenda Bozeman, Mayor, Town of Leland, 102 Town Hall Drive, Leland, NC 28451. | Planning and Zoning Department, 102 Town Hall Drive, Leland, NC 28451. | https://msc.fema.gov/portal/advanceSearch. | Aug. 2, 2024 | 370471
Brunswick | Unincorporated areas of Brunswick County (23-04-2026P). | Randy Thompson, Chair, Brunswick County, Board of Commissioners, P.O. Box 249, Bolivia, NC 28422. | Brunswick County Planning Department, 75 Courthouse Drive, Bolivia, NC 28422. | https://msc.fema.gov/portal/advanceSearch. | Aug. 2, 2024 | 370295
Buncombe | City of Asheville (22-04-5732P). | The Honorable Esther E. Manheimer, Mayor, City of Asheville, P.O. Box 7148, Asheville, NC 28802. | Asheville Stormwater Services and Utility Department, 161 South Charlotte Street, Asheville, NC 28801. | https://msc.fema.gov/portal/advanceSearch. | Aug. 26, 2024 | 370032
Buncombe | Town of Woodfin (22-04-5732P). | The Honorable Jerry M. Vehaun, Mayor, Town of Woodfin 90 Elk Mountain Road Woodfin, NC 28804. | Planning and Zoning Department, 90 Elk Mountain Road Woodfin, NC 28804. | https://msc.fema.gov/portal/advanceSearch. | Aug. 26, 2024 | 370380
Buncombe | Unincorporated areas of Buncombe County (22-04-5732P). | Brownie Newman, Chair, Buncombe County Board of Commissioners 200 College Street, Suite 300, Asheville, NC 28801. | Buncombe County Planning and Development Department, 46 Valley Street, Asheville, NC 28801. | https://msc.fema.gov/portal/advanceSearch. | Aug. 26, 2024 | 370031
Buncombe | Unincorporated areas of Buncombe County (23-04-3408P). | Brownie Newman, Chair, Buncombe County Board of Commissioners 200 College Street, Suite 300, Asheville, NC 28801. | Buncombe County Planning and Development Department, 46 Valley Street, Asheville, NC 28801. | https://msc.fema.gov/portal/advanceSearch. | Aug. 9, 2024 | 370031
Cabarrus | Town of Harrisburg (22-04-2503P). | The Honorable Jennifer Teague, Mayor, Town of Harrisburg, P.O. Box 100, Harrisburg, NC 28075. | Town Hall, 4100 Main Street, Suite 101, Harrisburg, NC 28075. | https://msc.fema.gov/portal/advanceSearch. | Sep. 19, 2024 | 370038
Cabarrus | Unincorporated areas of Cabarrus County (22-04-2503P). | Stephen M. Morris, Chair, Cabarrus County Board of Commissioners, P.O. Box 100, Harrisburg, NC 28075. | Cabarrus County Planning Services Department, 65 Church Street Southeast, Concord, NC 28025. | https://msc.fema.gov/portal/advanceSearch. | Sep. 19, 2024 | 370036
Durham | Unincorporated areas of Durham County (23-04-5200P). | Nida Allam, Chair, Durham County Board of Commissioners, 200 East Main Street, Durham, NC 27701. | Durham City-County Planning Department, 101 City Hall Plaza, Durham, NC 27701. | https://msc.fema.gov/portal/advanceSearch. | Sep. 3, 2024 | 370085
Gaston | City of Cherryville (23-04-4491P). | The Honorable H.L. Beam, Mayor, City of Cherryville, 116 South Mountain Street, Cherryville, NC 28021. | Planning and Zoning Department, 116 South Mountain Street, Cherryville, NC 28021. | https://msc.fema.gov/portal/advanceSearch. | Aug. 5, 2024 | 370455
Guilford | City of Greensboro (23-04-3912P). | The Honorable Nancy Vaughan, Mayor, City of Greensboro, P.O. Box 3136, Greensboro, NC 27402. | Stormwater Planning Division, 2602 South Elm, Eugene Street, Greensboro, NC 27402. | https://msc.fema.gov/portal/advanceSearch. | Sep. 19, 2024 | 375351
Wilkes | Town of Wilkesboro (23-04-2093P). | The Honorable Dale L. Isom, Mayor, Town of Wilkesboro, P.O. Box 1056, Wilkesboro, NC 28697. | Town Hall, 203 West Main Street, 2nd Floor, Wilkesboro, NC 28697. | https://msc.fema.gov/portal/advanceSearch. | Aug. 16, 2024 | 370259
Tennessee: Williamson | City of Spring Hill (23-04-5418P). | The Honorable Jim Hagaman, Mayor, City of Spring Hill, 199 Town Center Parkway, Spring Hill, TN 37174. | Engineering Department, 8060 Station Hill Drive, Spring Hill, TN 37174. | https://msc.fema.gov/portal/advanceSearch. | Sep. 13, 2024 | 470278
Texas:
Atascosa | City of Lytle (24-06-0507P). | The Honorable Ruben Gonzalez, Mayor, City of Lytle, P.O. Box 743, Lytle, TX 78052. | City Hall, 14916 Main Street, Lytle, TX 78052. | https://msc.fema.gov/portal/advanceSearch. | Sep. 12, 2024 | 480692
Collin | City of Celina (23-06-2687P). | The Honorable Ryan Tubbs, Mayor, City of Celina, 142 North Ohio Street, Celina, TX 75009. | City Hall, 142 North Ohio Street, Celina, TX 75009. | https://msc.fema.gov/portal/advanceSearch. | Sep. 3, 2024 | 480133
Collin | City of Frisco (24-06-0214P). | The Honorable Jeff Cheney, Mayor, City of Frisco, 6101 Frisco Square Boulevard, Frisco, TX 75034. | Engineering Development Department, 6101 Frisco Square Boulevard, Frisco, TX 75034. | https://msc.fema.gov/portal/advanceSearch. | Sep. 30, 2024 | 480134
Collin | City of McKinney (24-06-0193P). | The Honorable George Fuller, Mayor, City of McKinney, 222 North Tennessee Street, McKinney, TX 75069. | City Hall, 222 North Tennessee Street, McKinney, TX 75069. | https://msc.fema.gov/portal/advanceSearch. | Sep. 30, 2024 | 480135
Collin | City of McKinney (24-06-0214P). | The Honorable George Fuller, Mayor, City of McKinney, 222 North Tennessee Street, McKinney, TX 75069. | City Hall, 222 North Tennessee Street, McKinney, TX 75069. | https://msc.fema.gov/portal/advanceSearch. | Sep. 30, 2024 | 480135
Collin | City of Melissa (24-06-0193P). | The Honorable Jay Northcut, Mayor, City of Melissa, 3411 Barker Avenue, Melissa, TX 75454. | City Hall, 3411 Barker Avenue, Melissa, TX 75454. | https://msc.fema.gov/portal/advanceSearch. | Sep. 30, 2024 | 481626
Collin | Unincorporated areas of Collin County (23-06-2687P). | The Honorable Chris Hill, Collin County Judge, 2300 Bloomdale Road, McKinney, TX 75071. | Collin County Juvenile Justice Alternative Education Program Building, 4690 Community Avenue, McKinney, TX 75071. | https://msc.fema.gov/portal/advanceSearch. | Sep. 3, 2024 | 480130
Collin | Unincorporated areas of Collin County (24-06-0193P). | The Honorable Chris Hill, Collin County Judge, 2300 Bloomdale Road, Suite 4192, McKinney, TX 75071. | Collin County Juvenile Justice Alternative Education Program Building, 4690 Community Avenue, McKinney, TX 75071. | https://msc.fema.gov/portal/advanceSearch. | Sep. 30, 2024 | 480130
Dallas | City of Wilmer (24-06-0159P). | The Honorable Sheila Petta, Mayor, City of Wilmer, 128 North Dallas Avenue, Wilmer, TX 75172. | City Hall, 128 North Dallas Avenue, Wilmer, TX 75172. | https://msc.fema.gov/portal/advanceSearch. | Sep. 30, 2024 | 480190
Dallas | Unincorporated areas of Dallas County (24-06-0159P). | The Honorable Clay Lewis Jenkins, Dallas County Judge, 500 Elm Street, Suite 7000, Dallas, TX 75202. | Dallas County Records Building, 500 Elm Street, Suite 5300, Dallas, TX 75202. | https://msc.fema.gov/portal/advanceSearch. | Sep. 30, 2024 | 480165
Guadalupe | Unincorporated areas of Guadalupe County (23-06-2723P). | The Honorable Kyle Kutscher, Guadalupe County Judge, 101 East Court Street, Seguin, TX 78155. | Guadalupe County Environmental Health Department, 310 Interstate Highway 10 West, Seguin, TX 78155. | https://msc.fema.gov/portal/advanceSearch. | Sep. 23, 2024 | 480266
Johnson | Unincorporated areas of Johnson County (23-06-1788P). | The Honorable Christopher Boedeker, Johnson County Judge, 2 North Main Street, Cleburne, TX 76033. | Johnson County Public Works Department, 2 North Mill Street, Suite 305, Cleburne, TX 76033. | https://msc.fema.gov/portal/advanceSearch. | Sep. 30, 2024 | 480879
Medina | City of Castroville (23-06-2481P). | The Honorable Darrin Schroeder, Mayor, City of Castroville, 1209 Fiorella Street, Castroville, TX 78009. | Municipal Court, 1209 Fiorella Street, Castroville, TX 78009. | https://msc.fema.gov/portal/advanceSearch. | Sep. 20, 2024 | 480932
Medina | Unincorporated areas of Medina County (23-06-2481P). | The Honorable Keith Lutz, Medina County Judge, 1300 Avenue M, Room 250, Hondo, TX 78861. | Medina County Courthouse, 1100 16th Street, Hondo, TX 78861. | https://msc.fema.gov/portal/advanceSearch. | Sep. 20, 2024 | 480472
Tarrant | City of Fort Worth (23-06-2685P). | The Honorable Mattie Parker, Mayor, City of Fort Worth, 200 Texas Street, Fort Worth, TX 76102. | City Hall, 200 Texas Street, Fort Worth, TX 76102. | https://msc.fema.gov/portal/advanceSearch. | Sep. 30, 2024 | 480596
Vermont: Windham | Town of Brattleboro (23-01-0632P). | John R. Potter, Manager, Town of Brattleboro, 230 Main Street, Suite 208, Brattleboro, VT 05301. | Planning Services Department, 230 Main Street, Suite 202, Brattleboro, VT 05301. | https://msc.fema.gov/portal/advanceSearch. | Oct. 3, 2024 | 500126

[FR Doc. 2024-13773 Filed 6-21-24; 8:45 am]

BILLING CODE 9110-12-P